SUSQUEHANNA RIVER BASIN COMMISSION

Notice of Public Hearing and Commission Meeting

AGENCY: Susquehanna River Basin Commission.

ACTION: Notice of public hearing and Commission meeting.

SUMMARY: The Susquehanna River Basin Commission will hold a public hearing as part of its regular business meeting on September 16, 2010, in Corning, NY. At the public hearing, the Commission will consider: (1) Action on certain water resources projects; (2) compliance matters involving three projects; (3) action on a project involving a diversion; and (4) the rescission of two docket approvals. Details concerning the matters to be addressed at the public hearing and business meeting are contained in the Supplementary Information section of this notice.

DATES: September 16, 2010, at 8:30 a.m.

ADDRESSES: Radisson Hotel Corning, 125 Denison Parkway East, Corning, NY 14830.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net.

SUPPLEMENTARY INFORMATION: In addition to the public hearing and its related action items identified below, the business meeting also includes actions or presentations on the following items: (1) Update on the SRBC Remote Water Quality Monitoring Network; (2) hydrologic conditions in the basin; (3) final rulemaking covering 18 CFR Parts 806 and 808; (4) ratification/approval of grants/contracts; and (5) revision of the FY 2012 budget resolution. The Commission will also hear Legal Counsel's report.

Public Hearing—Compliance Matters

1. Project Sponsor: Talisman Energy USA Inc. Pad ID: Castle 01 047 (ABR-20100128), Armenia Township; Harvest Holdings 01 036 (ABR-20100225), Canton Township; and Putnam 01 076 (ABR-20100233), Armenia Township; Bradford County, Pa.

2. Project Sponsor: Cabot Oil & Gas Corporation. Withdrawal ID: Susquehanna River-3 (Docket No. 20080905), Great Bend Borough, Susquehanna County, Pa.

3. Project Sponsor: Seneca Resources Corporation. Pad ID: M. Pino H (ABR-20090933), DCNR 100 1V (ABR-20090436), Wilcox F (ABR-20090505), T. Wivell (ABR-20090814), Wivell I (ABR-20100607), DCNR 595 E (ABR-20100307), DCNR 595 D (ABR-20090827); Withdrawal ID: Arnot 5—Signor (Docket No. 20090908).

Public Hearing—Projects Scheduled for Action

1. Project Sponsor and Facility: Anadarko E&P Company LP (Beech Creek), Snow Shoe Township, Centre County, Pa. Application for surface water withdrawal of up to 0.249 mgd.

2. Project Sponsor and Facility: Anadarko E&P Company LP (Pine Creek—2), McHenry Township, Lycoming County, Pa. Application for surface water withdrawal of up to 0.499 mgd.

3. Project Sponsor and Facility: Anadarko E&P Company LP (Wolf Run), Snow Shoe Township, Centre County, Pa. Application for surface water withdrawal of up to 0.499 mgd.

4. Project Sponsor: Aqua Pennsylvania, Inc. Project Facility: Monroe Manor Water System, Monroe Township, Snyder County, Pa. Application for groundwater withdrawal of up to 0.180 mgd from Well 4.

5. Project Sponsor and Facility: Buck Ridge Stone, LLC (Salt Lick Creek), New Milford Township, Susquehanna County, Pa. Application for surface water withdrawal of up to 0.083 mgd.

6. Project Sponsor and Facility: Chesapeake Appalachia, LLC (Susquehanna River), Mehoopany Township, Wyoming County, Pa. Modification to project features of the withdrawal approval (Docket No. 20080923).

7. Project Sponsor and Facility: Chief Oil & Gas LLC (Martins Creek), Hop Bottom Borough, Susquehanna County, Pa. Application for surface water withdrawal of up to 0.360 mgd.

8. Project Sponsor and Facility: Citrus Energy (Susquehanna River), Washington Township, Wyoming County, Pa. Application for surface water withdrawal of up to 1.495 mgd.

9. Project Sponsor and Facility: Geary Enterprises (Buttermilk Creek), Falls Township, Wyoming County, Pa. Application for surface water withdrawal of up to 0.099 mgd.

10. Project Sponsor and Facility: Mansfield Borough Municipal Authority, Richmond Township, Tioga County, Pa. Application for groundwater withdrawal of up to 0.079 mgd from Well 3.

11. Project Sponsor: New Morgan Landfill Company, Inc. Project Facility: Conestoga Landfill, Bethel Township, Berks County, Pa. Application for groundwater withdrawal of up to 0.003 mgd from the Shop Well.

12. Project Sponsor: New Morgan Landfill Company, Inc. Project Facility: Conestoga Landfill (Quarry Pond), Bethel Township, Berks County, Pa. Application for surface water withdrawal of up to 0.250 mgd.

13. Project Sponsor and Facility: Novus Operating, LLC (Cowanesque River), Westfield Township, Tioga County, Pa. Application for surface water withdrawal of up to 0.750 mgd.

14. Project Sponsor and Facility: Novus Operating, LLC (Tioga River), Covington Township, Tioga County, Pa. Application for surface water withdrawal of up to 1.750 mgd.

15. Project Sponsor and Facility: Smith Transport Warehouse (Bald Eagle Creek), Snyder Township, Blair County, Pa. Application for surface water withdrawal of up to 0.160 mgd.

16. Project Sponsor and Facility: Sugar Hollow Trout Park and Hatchery, Eaton Township, Wyoming County, Pa. Application for groundwater withdrawal of up to 0.864 mgd combined total from Wells 1, 2, and 3 (Hatchery Well Field).

17. Project Sponsor and Facility: Talisman Energy USA Inc. (Seeley Creek), Wells Township, Bradford County, Pa. Application for surface water withdrawal of up to 0.750 mgd.

18. Project Sponsor and Facility: Talisman Energy USA Inc. (Wyalusing Creek), Stevens Township, Bradford County, Pa. Application for surface water withdrawal of up to 2.000 mgd.

19. Project Sponsor and Facility: Walker Township Water Association, Walker Township, Centre County, Pa. Modification to increase the total groundwater system withdrawal limit (30-day average) from 0.523 mgd to 0.962 mgd (Docket No. 20070905).

20. Project Sponsor and Facility: Williams Production Appalachia, LLC (Snake Creek), Liberty Township, Susquehanna County, Pa. Modification to project features of the withdrawal approval (Docket No. 20090302).

Public Hearing—Project Scheduled for Action Involving a Diversion

1. Project Sponsor: Gettysburg Municipal Authority. Project Facility: Hunterstown Wastewater Treatment Plant, Abbottstown Borough, Adams County, Pa. Application for an existing into-basin diversion of up to 0.123 mgd from the Potomac River Basin.

Public Hearing—Projects Scheduled for Rescission Action

1. Project Sponsor: McNeil PPC. Project Facility: Johnson & Johnson (Docket No. 20050906), Lititz Borough, Lancaster County, Pa.

2. Project Sponsor: Northampton Fuel Supply Company, Inc. Project Facility: Loomis Bank Operation (Docket No. 20040904), Hanover Township, Luzerne County, Pa.

Opportunity To Appear and Comment

Interested parties may appear at the above hearing to offer written or oral comments to the Commission on any matter on the hearing agenda, or at the business meeting to offer written or oral comments on other matters scheduled for consideration at the business meeting. The chair of the Commission reserves the right to limit oral statements in the interest of time and to otherwise control the course of the hearing and business meeting. Written comments may also be mailed to the Susquehanna River Basin Commission, 1721 North Front Street, Harrisburg, Pennsylvania 17102-2391, or submitted electronically to Richard A. Cairo, General Counsel, e-mail: rcairo@srbc.net or Stephanie L. Richardson, Secretary to the Commission, e-mail: srichardson@srbc.net. Comments mailed or electronically submitted must be received prior to September 10, 2010, to be considered.

Authority: Public Law 91-575, 84 Stat. 1509 et seq., 18 CFR Parts 806, 807, and 808.

Dated: August 17, 2010.
Thomas W. Beauduy,
Deputy Director.

[FR Doc. 2010-21334 Filed 8-26-10; 8:45 am]

BILLING CODE 7040-01-P